INTERNATIONAL TRADE COMMISSION

[Investigation No. DR-CAFTA-103-016]

Probable Economic Effect of Modifications to DR-CAFTA Rules of Origin and Tariffs for Certain Apparel Goods

AGENCY: United States International Trade Commission.

ACTION: Clarification of scope of investigation, change in title, and extension of deadline for filing written submissions.

SUMMARY: The title of the investigation as published in the Federal Register on February 9, 2007 (72 FR 7455) suggests that the Commission will provide advice limited to the probable economic effect of modification of certain rules of origin in the Dominican Republic-Central America-United States Free Trade Agreement for certain apparel goods of Costa Rica and the Dominican Republic only. However, the text of the notice indicates that the Commission will provide such advice with respect to the probable economic effect of modification of the rules of origin on such apparel goods of all the parties to the agreement. The Commission's intent to is provide the broader advice. Accordingly, the title of the investigation is amended to delete “of Costa Rica and the Dominican Republic.” To allow additional time for any interested parties who may have been confused by the title, the Commission has extended the deadline for filing written submissions in this investigation from March 2, 2007 to March 16, 2007.

All other information in the notice published on February 9, 2007, including with respect to Commission contacts, background information, and requirements for submitting written statements (except for the deadline) remains the same.

Issued: February 23, 2007.
By order of the Commission.
Marilyn Abbott,
Secretary to the Commission.

[FR Doc. E7-3539 Filed 2-28-07; 8:45 am]

BILLING CODE 7020-02-P